DEPARTMENT OF THE INTERIOR

National Park Service

[N6511; NPS-WASO-NAGPRA-NPS0041057; PPWOCRADN0-PCU00RP14.R50000]

Notice of Inventory Completion: University of California, Santa Barbara, Repository for Archaeological and Ethnographic Collections, Santa Barbara, CA

AGENCY: National Park Service, Interior.

ACTION: Notice.

SUMMARY: In accordance with the Native American Graves Protection and Repatriation Act (NAGPRA), the University of California, Santa Barbara (UCSB), Repository for Archaeological and Ethnographic Collections has completed an inventory of human remains and associated funerary objects and has determined that there is a cultural affiliation between the human remains and associated funerary objects and Indian Tribes or Native Hawaiian organizations in this notice.

DATES: Repatriation of the human remains and associated funerary objects in this notice may occur on or after October 14, 2025.

ADDRESSES: Send written requests for repatriation of the human remains and associated funerary objects in this notice to Hugh Radde, University of California, Santa Barbara, Santa Barbara, CA 93106, email NAGPRA@ucsb.edu.

SUPPLEMENTARY INFORMATION: This notice is published as part of the National Park Service's administrative responsibilities under NAGPRA. The determinations in this notice are the sole responsibility of the UCSB Repository for Archaeological and Ethnographic Collections, and additional information on the determinations in this notice, including the results of consultation, can be found in its inventory or related records. The National Park Service is not responsible for the determinations in this notice.

Abstract of Information Available

Human remains representing, at least, 10 individuals have been identified (Accession 511). The 125 associated funerary objects are groundstone objects, shellfish remains, animal bones, shell beads, glass beads, stone beads, fire-affected rock, lithic tools, asphaltum and other cultural materials removed from this burial site. On an unknown date, possibly in September 1987, the individuals were removed from CA-VEN-506 in Ventura County, CA. In 1985, a cemetery was encountered and excavated by Robert Wlodarski; however, those individuals were left in place or reburied. Therefore, it is unknown when or why these additional individuals were removed and brought to UCSB. It is unknown whether the remains were treated with preservatives or other potentially hazardous substances.

Human remains representing, at least, one individual has been identified (Accession 616). The one associated funerary object is a single lot of processed material including animal remains, shellfish remain, asphaltum tools, groundstone, chipped stone, stone beads, shell beads, ochre, plant remains, charcoal, and other cultural materials found within the burial site. As of 2025, there are at least 98 cataloged items missing. The individual and associated cultural materials were removed from CA-VEN-139 in Ventura County, CA. The collection was excavated by Paul Aiello of Ventura Community College in 1979-1981 as part of an archaeological field class. It is unknown whether the remains were treated with preservatives or other potentially hazardous substances.

Human remains representing, at least, one individual has been identified (Accession 632). The 59 associated funerary objects are shell beads, shellfish remains, animal remains, chipped stone, groundstone, tarring pebbles, and other processed material. The ancestor and cultural materials were collected from the surface of CA-VEN-139 in Ventura County, CA by an unknown individual. In April 2000, the collection was anonymously donated to the Ojai Valley Museum who then transferred possession to UCSB. It is unknown whether the remains were treated with preservatives or other potentially hazardous substances.

Human remains representing, at least, three individuals have been identified (Accession 248.42). The three associated funerary objects are one rock, one bird bone, one fish bone. Accession 248.42 was reportedly removed from Ventura County, CA although the exact location and date of removal is unknown. On an unknown date after 1983, the individuals were donated to UCSB. It is unknown whether the remains were treated with preservatives or other potentially hazardous substances.

Human remains representing, at least, 12 individuals have been identified (Accession 248.48-62). The 129 associated funerary objects are animal remains, shellfish remains, shell beads, unidentified organic objects, and stone tools. These individuals are believed to have been removed from CA-VEN-789 in 1988. On an unknown date prior to 1997 they were brought to UCSB. It is unknown whether the remains were treated with preservatives or other potentially hazardous substances.

Human remains representing, at least, two individuals have been identified (Accession 248.51). No associated funerary objects are present. These individuals are believed to have been removed from Ojai, CA or other parts of Ventura County. On an unknown date, they were brought to UCSB. There is no associated documentation. It is unknown whether the remains were treated with preservatives or other potentially hazardous substances.

Human remains representing, at least, one individual has been identified (Accession 576.VEN4). The five associated funerary objects are animal remains. On an unknown date, the individual was removed from CA-VEN-4 in Ventura County, CA. At this time, there is no available documentation regarding the collection history. The individual was acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Human remains representing, at least, one individual has been identified (Accession 576.VEN13). No associated funerary objects are present. On an unknown date, the individual was removed from CA-VEN-13 in Ventura County, CA. At this time, there is no available documentation regarding the collection history. The individual was acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Human remains representing, at least, one individual has been identified (Accession 576.VEN58). The eight associated funerary objects are animal bone, shellfish remains, and a chert core; however, as of 2025, five shell fragments are missing. The individual was removed from CA-VEN-58 in Ventura County, CA. Roberta Greenwood and R.O. Browne removed burials from this site in 1962. These individuals are most likely associated with that project. In 1995 they were donated to UCSB on behalf of R.O. Browne, who was a resident known for collecting archaeological and cultural materials from various regions, with a particular focus on Ventura County. It is unknown whether the remains were treated with preservatives or other potentially hazardous substances.

Human remains representing, at least, two individuals have been identified (Accession 576.VEN150). The 17 associated funerary objects are stone tools fragments, charcoal, shell, ochre, wood, and clay fragments; however, as of 2025, 11 objects are missing. The individuals were removed from CA-VEN-150 in Ventura County, CA. R.O. Browne had a home located on top of CA-VEN-150. From 1957 to 1963, Browne and colleagues excavated many portions of the site and removed burials. These individuals are most likely associated with one of those projects. In 1995 they were donated to UCSB on behalf of R.O. Browne. It is unknown whether the remains were treated with preservatives or other potentially hazardous substances.

Human remains representing, at least, two individuals have been identified (Accession 576.VEN168). The 38 associated funerary objects are animal and shellfish remains; however, as of 2025, six objects are missing. On an unknown date, the individuals were removed from CA-VEN-168 in Ventura County, CA. At this time, there is no available documentation regarding the collection history. The individuals were acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Human remains representing, at least, three individuals have been identified (Accession 576.CL). No associated funerary objects are present. The individuals were removed from a location referred to as “Canada Larga” which is believed to be CA-VEN-58 in Ventura County, CA. Roberta Greenwood and R.O. Browne removed burials from this site in 1962. These individuals are most likely associated with that project. In 1995 they were donated to UCSB on behalf of R.O. Browne, who was a resident known for collecting archaeological and cultural materials from various regions, with a particular focus on Ventura County. It is unknown whether the remains were treated with preservatives or other potentially hazardous substances.

Human remains representing, at least, two individuals have been identified (Accession 576.B155). The one associated funerary is a single elasmobranchii centrum. These ancestral remains were removed from a site believed to have been located in Ventura County, California. The individuals were acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Human remains representing, at least, four individuals have been identified (Accession 576.MU). The 92 associated funerary objects are animal remains, shellfish remains, and soapstone; however, as of 2025, 52 objects are missing. Accession 576.MU is a collection of ancestral human remains likely removed from a location near Point Mugu in Los Angeles County, California. Point Mugu (Muwu) is a location in Ventura County, CA known for several important Chumash historic villages. The identity of the original collector and the date of removal are unknown. The individuals were acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Human remains representing, at least, 24 individuals have been identified (Accession 576.UNK). The one associated funerary is a single lot of processed material. The individuals were likely removed from a location in Ventura County, CA. There is no associated documentation. The individuals were acquired by R.O. Browne, a Ventura County resident known for collecting archaeological and cultural materials from various regions, with a particular focus on Ventura County. Following Mr. Browne's passing, the remains were donated to UC Santa Barbara in 1995 on his behalf. It is unknown whether the remains were treated with preservatives or other potentially hazardous substances.

Cultural Affiliation

Based on the information available and the results of consultation, cultural affiliation is reasonably identified by the geographical location or acquisition history of the human remains and associated funerary objects described in this notice.

Determinations

The UCSB Repository for Archaeological and Ethnographic Collections has determined that:

• The human remains described in this notice represent the physical remains of 69 individuals of Native American ancestry.

• The 479 objects described in this notice are reasonably believed to have been placed intentionally with or near individual human remains at the time of death or later as part of the death rite or ceremony.

• There is a connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 14, 2025. If competing requests for repatriation are received, the UCSB Repository for Archaeological and Ethnographic Collections must determine the most appropriate requestor prior to repatriation. Requests for joint repatriation of the human remains and associated funerary objects are considered a single request and not competing requests. The UCSB Repository for Archaeological and Ethnographic Collections is responsible for sending a copy of this notice to the Indian Tribes and Native Hawaiian organizations identified in this notice and any other consulting parties.

Authority: Native American Graves Protection and Repatriation Act, 25 U.S.C. 3003, and the implementing regulations, 43 CFR 10.10.

Dated: August 29, 2025.
Melanie O'Brien,
Manager, National NAGPRA Program.

[FR Doc. 2025-17622 Filed 9-11-25; 8:45 am]

BILLING CODE 4312-52-P